DEPARTMENT OF COMMERCE

National Oceanic and Atmospheric Administration

[I.D. 031604E]

South Atlantic Fishery Management Council; Public Meeting

AGENCY: National Marine Fisheries Service (NMFS), National Oceanic and Atmospheric Administration (NOAA), Commerce.

ACTION: Notice of a public meeting.

SUMMARY: The Southeast Data and Review (SEDAR) Steering Committee will meet to discuss the SEDAR process and assessment priorities. See SUPPLEMENTARY INFORMATION.

DATES: The SEDAR Steering Committee will meet at 10 a.m. on Wednesday, April 7, 2004.

ADDRESSES: The meeting will be held at NOAA Fisheries' Southeast Fisheries Science Center, 75 Virginia Beach Drive, Miami, FL 33149; telephone: (305)361-4200.

FOR FURTHER INFORMATION CONTACT: John Carmichael, SEDAR Coordinator, SEDAR/SAFMC, One Southpark Circle, Suite 306, Charleston, SC 29407; telephone: (843) 571-4366 or toll free (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. The SEDAR Steering Committee provides oversight of the SEDAR process and establishes assessment priorities.

The SEDAR Steering Committee will meet April 7, 2004, to discuss assessment priorities for the next 3 SEDAR cycles to be held in 2004 and 2005, review the SEDAR process, evaluate funding, and consider the role of SEDAR in assessing highly migratory stocks with particular emphasis on future coastal shark assessments.

The times and sequence specified on this agenda are subject to change. Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the SEDAR office (see FOR FURTHER INFORMATION CONTACT) at least 5 business days prior to the meeting.

Dated: March 16, 2004.
Bruce C. Morehead,
Acting Director, Office of Sustainable Fisheries, National Marine Fisheries Service.

[FR Doc. 04-6229 Filed 3-18-04; 8:45 am]

BILLING CODE 3510-22-S